DEPARTMENT OF HEALTH AND HUMAN SERVICES

National Institutes of Health

National Heart, Lung, and Blood Institute; Notice of Meeting

Pursuant to section 10(a) of the Federal Advisory Committee Act, as amended, notice is hereby given of a meeting of the Sleep Disorders Research Advisory Board (SDRAB).

This will be a hybrid meeting held in-person and virtually and will be open to the public as indicated below. Individuals who plan to attend in-person or view the virtual meeting and need special assistance or other reasonable accommodation should notify the Contact Person listed below in advance of the meeting. The meeting can be accessed from a link that will be provided once registration is confirmed.

Name of Committee: Sleep Disorders Research Advisory Board.

Date: April 9, 2026.

Time: 1:00 p.m. to 5:00 p.m.

Agenda: The purpose of this meeting is to seek guidance and gather input from the Sleep Disorders Research Advisory Board on research priorities conducted or supported by the Institute; and to continue discussions on the topics for the NIH Sleep Research Plan refresh.

Address: National Heart, Lung, and Blood Institute, National Institutes of Health, 6705 Rockledge Drive, Suite 407B, Bethesda, MD 20814.

Meeting Format: Virtual and In-person.

Contact Person: Marishka Brown, Ph.D., nom SDRAB, Executive Secretary, Director, National Center on Sleep Disorders Research, National Institutes of Health, National Heart, Lung, and Blood Institute, 6705 Rockledge Drive, Suite 407B, Bethesda, Maryland 20814, 301-435-0199, ncsdr@nih.gov.

Date: April 10, 2026.

Time: 9:30 a.m. to 2:00 p.m.

Agenda: The purpose of this meeting is to seek guidance and gather input from the Sleep Disorders Research Advisory Board on research priorities conducted or supported by the Institute; and to continue discussions on the topics for the NIH Sleep Research Plan refresh.

Address: National Institutes of Health, Rockledge II, 6701 Rockledge Drive, Bethesda, MD 20892.

Meeting Format: Virtual and In-person.

Contact Person: Marishka Brown, Ph.D., SDRAB Executive Secretary, Director, National Center on Sleep Disorders Research, National Institutes of Health, National Heart, Lung, and Blood Institute, 6705 Rockledge Drive, Suite 407B, Bethesda, Maryland 20814, 301-435-0199, ncsdr@nih.gov.

Registration is required to attend the open portion of this meeting. To register, use the following link: https://events.gcc.teams.microsoft.com/event/65acb0f8-d2c3-44c1-9351e9d359e3bd0d@14b77578-9773-42d5-8507-251ca2dc2b06.

Any member of the public interested in presenting oral comments to the committee may notify the Contact Person listed on this notice at least 10 days in advance of the meeting. Interested individuals and representatives of organizations may submit a letter of intent, a brief description of the organization represented, and a short description of the oral presentation. Only one representative of an organization may be allowed to present oral comments and if accepted by the committee, presentations may be limited to five minutes. Both printed and electronic copies are requested for the record. In addition, any interested person may file written comments with the committee by forwarding their statement to the Contact Person listed on this notice. The statement should include the name, address, telephone number and when applicable, the business or professional affiliation of the interested person.

Information is also available on the SDRAB home page, https://www.nhlbi.nih.gov/about/advisory-and-peer-review-committees/sleep-disorders-research, where an agenda and any additional information for the meeting will be posted when available.

(Catalogue of Federal Domestic Assistance Program Nos. 93.233, National Center for Sleep Disorders Research; 93.837, Heart and Vascular Diseases Research; 93.838, Lung Diseases Research; 93.839, Blood Diseases and Resources Research, National Institutes of Health, HHS)

Dated: January 20, 2026.
Denise M. Santeufemio,
Supervisory Program Analyst, Office of Federal Advisory Committee Policy.

[FR Doc. 2026-01169 Filed 1-21-26; 8:45 am]

BILLING CODE 4140-01-P